Title 3—

The President

Proclamation 7371 of November 7, 2000

National Adoption Month, 2000

By the President of the United States of America

A Proclamation

Families are the cornerstone of our Nation. Yet, today, tens of thousands of America's children are living within our child welfare system, without the sustained love and care of permanent families. For many of these children, often shuttled from one living situation to another, adoption opens the door to loving parents and permanent homes, where they can put down roots and learn what it means to be part of a safe, stable family. Adoption gives children who have been orphaned, abandoned, or abused a precious second chance at happiness; a chance to love and be loved and to reach their full potential in a secure, supportive environment.

While foster care offers children a safe temporary haven, adoption allows children to have the permanent homes they deserve. That is why increasing the chances of adoption for children in the foster care system has been one of my Administration's chief goals. Over the last 8 years, we have worked with the Congress to craft legislation that makes it easier, faster, and more affordable for parents to adopt children. Adoptive parents—like all new parents—can now take time off to care for their newly adopted children without fear of losing their jobs. We have ensured health coverage for adopted children with special needs, barred discrimination and delays of adoptions on the basis of race or ethnicity, provided tax cuts to families adopting children, and offered States financial incentives to move children more rapidly from foster care into the permanent homes of loving families.

We are beginning to see dramatic results from these efforts. Last year alone, 46,000 foster children were adopted—an increase of nearly 65 percent since 1996. All 50 States, as well as the District of Columbia and Puerto Rico, have succeeded in increasing the number of children adopted from their child welfare systems. This puts us well on the way to meeting my goal of doubling the annual number of adoptions from 28,000 in 1996 to 56,000 in 2002.

Despite our efforts, nearly 20,000 18-year-olds still leave foster care each year without the emotional, social, and financial support that adoptive families provide. To help them make the challenging transition to successful, independent adulthood, I signed the Foster Care Independence Act last year. This legislation provides young people who are growing too old for the foster care system with better educational opportunities and access to health care, training, housing assistance, counseling, and other services.

As we observe National Adoption Month, we should take pride in our progress, but realize that there is more work to be done. Let us recommit ourselves to giving our Nation's most vulnerable children what every child deserves and needs—a safe, stable home and a loving family. And let us also give thanks for the many generous and compassionate families who, through adoption, have opened their hearts and homes and changed a child's life forever.

NOW, THEREFORE, I, WILLIAM J. CLINTON, President of the United States of America, by virtue of the authority vested in me by the Constitution and laws of the United States, do hereby proclaim November 2000 as National Adoption Month. I urge all Americans to observe this month with appropriate programs and activities to honor adoptive families and to participate in efforts to find permanent, loving homes for waiting children.

IN WITNESS WHEREOF, I have hereunto set my hand this seventh day of November, in the year of our Lord two thousand, and of the Independence of the United States of America the two hundred and twenty-fifth.

wj

[FR Doc. 00-29089

Filed 11-09-00; 8:45 am]

Billing code 3195-01-P